PENSION BENEFIT GUARANTY CORPORATION

29 CFR Part 4044

Allocation of Assets in Single-Employer Plans

CFR Correction

In Title 29 of the Code of Federal Regulations, Part 1927 to End, revised as of July 1, 2010, on page 1007, in the table in Appendix B, in the entry for July 1994, the fourth column is corrected to read “.0525”.

[FR Doc. 2011-8325 Filed 4-5-11; 8:45 am]

BILLING CODE 1505-01-D